DEPARTMENT OF ENERGY

Federal Energy Regulatory Commission

Combined Notice of Filings #1

September 23, 2009.

Take notice that the Commission received the following electric rate filings:

Docket Numbers: ER07-509-002.

Applicants: California Power Holdings, LLC.

Description: California Power Holdings, LLC submits revised amendment to market based rate tariff.

Filed Date: 09/18/2009.

Accession Number: 20090922-0066.

Comment Date: 5 p.m. Eastern Time on Friday, October 09, 2009.

Docket Numbers: ER09-32-004.

Applicants: Barton Windpower LLC.

Description: Notice of Non-Material Change in Status of Barton Windpower LLC.

Filed Date: 09/23/2009.

Accession Number: 20090923-5048.

Comment Date: 5 p.m. Eastern Time on Wednesday, October 14, 2009.

Docket Numbers: ER09-1479-001.

Applicants: Kansas Energy LLC.

Description: Kansas Energy LLC submits its amended Petition.

Filed Date: 09/21/2009.

Accession Number: 20090922-0070.

Comment Date: 5 p.m. Eastern Time on Tuesday, October 13, 2009.

Docket Numbers: ER09-1643-001.

Applicants: E.ON U.S., LLC.

Description: Louisville Gas and Electric Co et al. submits Substitute First Revised Sheet 104 et al. to FERC Electric Tariff, Fourth Revised Volume 1.

Filed Date: 09/21/2009.

Accession Number: 20090922-0036.

Comment Date: 5 p.m. Eastern Time on Tuesday, October 13, 2009.

Docket Numbers: ER09-1677-001.

Applicants: Big Sky Wind, LLC.

Description: Big Sky Wind, LLC submits Sub. Original Sheet 3 to its proposed tariff to correct an inadvertent error in the tariff submitted on Sept. 3.

Filed Date: 09/21/2009.

Accession Number: 20090922-0071.

Comment Date: 5 p.m. Eastern Time on Tuesday, October 13, 2009.

Docket Numbers: ER09-1711-000.

Applicants: California Independent System Operator Corporation.

Description: California Independent System Operator Corporation submits an informational filing that is intended to provide notice re the ISO's revised transmission access charges effective 5/1/09.

Filed Date: 09/15/2009.

Accession Number: 20090916-0092.

Comment Date: 5 p.m. Eastern Time on Tuesday, October 06, 2009.

Docket Numbers: ER09-1723-000.

Applicants: Dry Lake Wind Power, LLC.

Description: Application of Dry Lake Wind Power, LLC for order accepting initial tariff, Waiving 60 day prior notice requirement and granting Blanket Approvals etc.

Filed Date: 09/22/2009.

Accession Number: 20090923-0008.

Comment Date: 5 p.m. Eastern Time on Tuesday, October 13, 2009.

Docket Numbers: ER09-1724-000.

Applicants: Cleco Power LLC.

Description: Cleco Power, LLC submits an amendment to the Electric System Interconnection Agreement with Southwestern Electric Power Co.

Filed Date: 09/21/2009.

Accession Number: 20090922-0037.

Comment Date: 5 p.m. Eastern Time on Tuesday, October 13, 2009.

Docket Numbers: ER09-1726-000.

Applicants: ALLETE, Inc.

Description: Allete, Inc submits Schedule 2 to its Open Access Transmission Tariff in order to govern the provision of reactive power and voltage support over certain high-voltage direct-current transmission facilities etc.

Filed Date: 09/21/2009.

Accession Number: 20090922-0072.

Comment Date: 5 p.m. Eastern Time on Tuesday, October 13, 2009.

Docket Numbers: ER09-1727-000.

Applicants: Midwest Independent Transmission System Operator, Inc.; ALLETE, Inc.

Description: Midwest Independent Transmission System Operator, Inc. et al. submits agency agreement and revisions to the Midwest ISO's open access transmission, energy and operating reserve markets tariff.

Filed Date: 09/21/2009.

Accession Number: 20090922-0073.

Comment Date: 5 p.m. Eastern Time on Tuesday, October 13, 2009.

Docket Numbers: ER09-1728-000.

Applicants: ALLETE, Inc.

Description: Allete, Inc. submits Interconnection and Operating Agreement.

Filed Date: 09/21/2009.

Accession Number: 20090922-0068.

Comment Date: 5 p.m. Eastern Time on Tuesday, October 13, 2009.

Docket Numbers: ER09-1732-000.

Applicants: Southwest Power Pool, Inc.

Description: Southwest Power Pool, Inc. submits Original Service Agreement 1806 to FERC Electric Tariff, Fifth Revised Volume 1.

Filed Date: 09/22/2009.

Accession Number: 20090923-0007.

Comment Date: 5 p.m. Eastern Time on Tuesday, October 13, 2009.

Docket Numbers: ER09-1733-000.

Applicants: Southwest Power Pool, Inc.

Description: Southwest Power Pool, Inc. submits revisions to an executed Meter Agent Services Agreement between Dodwood Energy, LLC as the Market Participant and KCP&L Greater Missouri Operations Co.

Filed Date: 09/22/2009.

Accession Number: 20090923-0006.

Comment Date: 5 p.m. Eastern Time on Tuesday, October 13, 2009.

Take notice that the Commission received the following PURPA 210(m)(3) filings:

Docket Numbers: QM09-7-000.

Applicants: Old Dominion Electric Cooperative, Inc.

Description: Application of Old Dominion Electric Cooperative to Terminate Purchase Obligation.

Filed Date: 09/23/2009.

Accession Number: 20090923-5019.

Comment Date: 5 p.m. Eastern Time on Wednesday, October 21, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-23546 Filed 9-29-09; 8:45 am]

BILLING CODE 6717-01-P